DEPARTMENT OF ENERGY

Federal Energy Regulatory Commission

Combined Notice of Filings #2

September 24, 2015.

Take notice that the Commission received the following electric rate filings:

Docket Numbers: ER15-2707-000.

Applicants: PacifiCorp.

Description: § 205(d) Rate Filing: USBR SGIA ? Green Springs Rev 1 to be effective 9/15/2015.

Filed Date: 9/24/15.

Accession Number: 20150924-5112.

Comments Due: 5 p.m. ET 10/15/15.

Docket Numbers: ER15-2708-000.

Applicants: Hardin Hilltop Wind, LLC.

Description: § 205(d) Rate Filing: Hardin Hilltop and Greene Wind Transmission and Interconnection Agreement to be effective 11/23/2015.

Filed Date: 9/24/15.

Accession Number: 20150924-5119.

Comments Due: 5 p.m. ET 10/15/15.

Docket Numbers: ER15-2709-000.

Applicants: Hardin Hilltop Wind, LLC.

Description: § 205(d) Rate Filing: Hardin Hilltop and Hardin Wind Transmission and Interconnection Agreement to be effective 11/23/2015.

Filed Date: 9/24/15.

Accession Number: 20150924-5125.

Comments Due: 5 p.m. ET 10/15/15.

Docket Numbers: ER15-2710-000.

Applicants: Hardin Hilltop Wind, LLC.

Description: § 205(d) Rate Filing: Hardin Hilltop and Poverty Ridge Transmission and Interconnection Agreement to be effective 11/23/2015.

Filed Date: 9/24/15.

Accession Number: 20150924-5126.

Comments Due: 5 p.m. ET 10/15/15.

Docket Numbers: ER15-2711-000.

Applicants: Hardin Hilltop Wind, LLC.

Description: § 205(d) Rate Filing: Hardin Hilltop and Sutton Wind Transmission and Interconnection Agreement to be effective 11/23/2015.

Filed Date: 9/24/15.

Accession Number: 20150924-5127.

Comments Due: 5 p.m. ET 10/15/15.

Docket Numbers: ER15-2712-000.

Applicants: Hardin Hilltop Wind, LLC.

Description: § 205(d) Rate Filing: Hardin Hilltop and Wind Family Transmission and Interconnection Agreement to be effective 11/23/2015.

Filed Date: 9/24/15.

Accession Number: 20150924-5129.

Comments Due: 5 p.m. ET 10/15/15.

Docket Numbers: ER15-2713-000.

Applicants: Florida Power & Light Company.

Description: § 205(d) Rate Filing: FPL-FPUC-Preliminary Engineering Design, Permitting and Procurement of Material to be effective 9/2/2015.

Filed Date: 9/24/15.

Accession Number: 20150924-5130.

Comments Due: 5 p.m. ET 10/15/15.

Docket Numbers: ER15-2714-000.

Applicants: Hardin Hilltop Wind, LLC.

Description: § 205(d) Rate Filing: Hardin Hilltop and Zontos Wind Transmission and Interconnection Agreement to be effective 11/23/2015.

Filed Date: 9/24/15.

Accession Number: 20150924-5131.

Comments Due: 5 p.m. ET 10/15/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 24, 2015.
Nathaniel J. Davis, Sr.,
Deputy Secretary.

[FR Doc. 2015-24736 Filed 9-29-15; 8:45 am]

BILLING CODE 6717-01-P